NUCLEAR REGULATORY COMMISSION

[Docket No. 52-033-COL; ASLBP No. 09-880-05-COL-BD01]

Detroit Edison Company; Establishment of Atomic Safety and Licensing Board

Pursuant to delegation by the Commission dated December 29, 1972, published in the Federal Register, 37 FR 28,710 (1972), and the Commission's regulations, see 10 CFR 2.104, 2.300, 2.303, 2.309, 2.311, 2.318, and 2.321, notice is hereby given that an Atomic Safety and Licensing Board (Board) is being established to preside over the following proceeding:

Detroit Edison Company

(Fermi Nuclear Power Plant, Unit 3)

This proceeding concerns a Petition to Intervene and Request for Hearing dated March 9, 2009 from Beyond Nuclear, et al., that was submitted in response to a January 8, 2009 Notice of Hearing and Opportunity to Petition for Leave to Intervene on a Combined License for the Fermi Nuclear Power Plant, Unit 3 (74 FR 836). The petitioners challenge the application filed by Detroit Edison Company pursuant to Subpart C of 10 CFR Part 52 for a combined license for Fermi Nuclear Power Plant, Unit 3, which would be located in Monroe County, Michigan.

The Board is comprised of the following administrative judges:

Ronald M. Spritzer, Chair, Atomic Safety and Licensing Board Panel, U.S. Nuclear Regulatory Commission, Washington, DC 20555-0001.

Michael F. Kennedy, Atomic Safety and Licensing Board Panel, U.S. Nuclear Regulatory Commission, Washington, DC 20555-0001.

Randall J. Charbeneau, Atomic Safety and Licensing Board Panel, U.S. Nuclear Regulatory Commission, Washington, DC 20555-0001.

All correspondence, documents, and other materials shall be filed in accordance with the NRC E-Filing rule, which the NRC promulgated in August 2007 (72 FR 49,139).

Issued at Rockville, Maryland, this 19th day of March 2009.
E. Roy Hawkens,
Chief Administrative Judge,Atomic Safety and Licensing Board Panel.

[FR Doc. E9-6555 Filed 3-24-09; 8:45 am]

BILLING CODE 7590-01-P